DEPARTMENT OF AGRICULTURE

Farm Service Agency

Information Collection Request; Request for Aerial Photography

AGENCY: Farm Service Agency, USDA.

ACTION: Notice; request for comments.

SUMMARY: In accordance with the Paperwork Reduction Act of 1995, the Farm Service Agency (FSA) is seeking comments from all interested individuals and organizations on an extension of a currently approved information collection associated with FSA Aerial Photography Program. The FSA Aerial Photography Field Office (APFO) uses the information from this form to collect the customer and photography information needed to produce and ship the various photographic products ordered.

DATES: We will consider comments that we receive by August 17, 2012.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail: David Parry, USDA, Farm Service Agency, APFO Customer Service Section, 2222 West 2300 South Salt Lake City, Utah 84119-2020.

• Email: david.parry@slc.usda.gov.

You may also send comments to the Desk Officer for Agriculture, Office of Information and Regulatory Affairs, Office of Management and Budget, Washington, DC 20503. Copies of the information collection may be requested by contacting David Parry at the above address.

FOR FURTHER INFORMATION CONTACT: David Parry, Supervisor, (801) 844-2923. Persons with disabilities who require alternative mean for communication (Braille, large print, audio tape, etc.) should contact the USDA's TARGET Center at (202) 720-2600 (Voice and TDD).

SUPPLEMENTARY INFORMATION: Title: Request for Aerial Photography.

OMB Control Number: 0560-0176.

Expiration Date: December 31, 2012.

Type of Request: Extension of a Currently Approved Information Collection.

Abstract: The information collection is needed to enable the Department of Agriculture to effectively administrate the Aerial Photography Program. APFO has the responsibility for conducting and coordinating the FSA's aerial photography, remote sensing programs, and the aerial photography flying contract programs. The digital and film imagery secured by FSA is public domain and reproductions are available at cost to any customer with a need. All receipts from the sale of aerial photography products and services are retained by FSA. The FSA-441, Request for Aerial Photography, is the form FSA supplies to the customers for placing an order for aerial imagery products and services.

Estimate of Burden: Public reporting burden for this information collection is estimated to average 19 minutes hours per response. The average travel time, which is included in the total burden, is estimated to be 1 hour per respondent.

Respondents: Farmers, Ranchers and other USDA customers who wish to purchase imagery products and services.

Estimated Number of Respondents: 12,120.

Estimated Annual Number of Responses per Respondent: 1.

Estimated Annual Responses on Respondents: 12,120.

Estimated Total Annual Burden Hours: 3770 hours.

We are requesting comments on all aspects of this information collection to help us to:

(1) Determine whether the continued collection of information is still necessary for the proper performance of the functions of the FSA, including whether the information will have practical utility;

(2) Assess the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for the Office of Management and Budget approval.

Signed on June 5, 2012.
Bruce Nelson,
Administrator, Farm Service Agency.

[FR Doc. 2012-14738 Filed 6-15-12; 8:45 am]

BILLING CODE 3410-05-P